DEPARTMENT OF HOMELAND SECURITY

Coast Guard

33 CFR Part 117

[Docket No. USCG-2013-1080]

Drawbridge Operation Regulation; Dulac Bayou, Terrebonne Parish, LA

AGENCY: Coast Guard, DHS.

ACTION: Notice of deviation from drawbridge regulation.

SUMMARY: The Coast Guard has issued a temporary deviation from the operating schedule that governs the SR 57 drawbridge across the Dulac Bayou, mile 0.6, at Dulac, Terrebonne Parish, Louisiana. The deviation is necessary in order to conduct repair and replacement of parts associated with the wedge-drive system hydraulic unit. These repairs are essential for the continued safe operation of the bridge. This deviation allows the bridge to remain temporarily closed to navigation for 20 consecutive days with three openings per day during daylight to facilitate the movement of vessel traffic.

DATES: This deviation is effective from 6 a.m. on Monday, March 10, 2014 through 5 p.m. on Saturday, March 29, 2014.

ADDRESSES: The docket for this deviation, [USCG-2013-1080] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David Frank, Bridge Administration Branch, Coast Guard; telephone 504-671-2128, email David.M.Frank@uscg.mil. If you have questions on viewing the docket, call Cheryl F. Collins, Program Manager, Docket Operations, telephone 202-366-9826.

SUPPLEMENTARY INFORMATION: Coastal Bridge Company, on behalf of the Louisiana Department of Transportation and Development, requested a temporary deviation from the operating schedule on the SR 57 drawbridge across the Dulac Bayou, mile 0.6, at Dulac, Terrebonne Parish, Louisiana.

The bridge has a vertical clearance of 7 feet above mean high water in the closed-to-navigation position and unlimited in the open-to-navigation position. In accordance with 33 CFR 117.5, the draw shall open on signal for the passage of vessels.

This temporary deviation allows the swing bridge to remain closed to navigation for a total of 20 days from 6 a.m. on Monday, March 10, 2014 through 5 p.m. on Saturday, March 29, 2014, except that the bridge will open to pass all waiting vessels at 6 a.m., 12 noon, and 5 p.m. daily. During this time, repairs will be performed to the hydraulic system of the bridge to include removing and replacing the end wedge-drive system hydraulic pressure unit, all end wedge-drive system hydraulic piping, and four end wedge-drive hydraulic cylinders.

During the closure period, the bridge will not be able to open for the passage of vessels except during the scheduled periods of operation. No alternate routes are available during this deviation; however, the bridge owner will attempt to contact all waterway users to keep them abreast of the repair work. Navigation on the waterway consists of small tugs with tows, fishing vessels, and other recreational craft.

In accordance with 33 CFR 117.35, the draw bridge must return to its regular operating schedule immediately at the end of the effective period of this temporary deviation.

This deviation from the operating regulations is authorized under 33 CFR 117.35.

Dated: January 13, 2014.
David M. Frank,
Bridge Administrator.

[FR Doc. 2014-01937 Filed 1-30-14; 8:45 am]

BILLING CODE 9110-04-P